DEPARTMENT OF COMMERCE

International Trade Administration

[A-475-818]

Certain Pasta From Italy: Preliminary Results of Antidumping Duty Administrative Review; 2019-2020

AGENCY: Enforcement and Compliance, International Trade Administration, Department of Commerce.

SUMMARY: The Department of Commerce (Commerce) is conducting an administrative review of the antidumping duty (AD) order on certain pasta (pasta) from Italy, covering the period July 1, 2019, through June 30, 2020. We preliminarily determine that La Molisana S.p.A. (La Molisana) sold pasta from Italy at less than normal value during the period of review (POR), and that Liguori Pastificio dal 1820 S.p.A. (Liguori) and Pastificio Della Forma S.r.l. (Della Forma) did not sell subject merchandise at less than normal value during the POR. Interested parties are invited to comment on these preliminary results.

DATES: Applicable August 3, 2021.

FOR FURTHER INFORMATION CONTACT: Jonathan Hall-Eastman and John Hoffner, AD/CVD Operations, Office III, Enforcement and Compliance, International Trade Administration, U.S. Department of Commerce, 1401 Constitution Avenue NW, Washington, DC 20230; telephone: (202) 482-1468 and (202) 482-3315, respectively.

SUPPLEMENTARY INFORMATION:

Background

On July 24, 1996, Commerce published the AD order in the Federal Register.¹ On September 3, 2020, pursuant to section 751(a)(1) of the Tariff Act of 1930, as amended (the Act), Commerce initiated an administrative review of the Order covering the following companies: Agritalia S.r.L., Armonie D'Italia srl, F. Divella S.p.A., La Molisana, Liguori, Pasta Castiglioni, Pasta Zara, S.p.A, Pastificio Della Forma S.r.l. (Della Forma), Pastificio C.A.M.S. Srl, and Pastificio Fratelli De Luca S.r.l, and Rummo S.p.A. (Rummo).² On February 1, 2021, Commerce rescinded the review of Rummo and its subsidiary Pasta Castiglioni.³ On October 15, 2010, we selected La Molisana and Liguori for individual examination in this review.⁴ Further, we have preliminarily collapsed Liguori and Della Forma and have considered these two companies to constitute a single entity.⁵

¹ See Notice of Antidumping Duty Order and Amended Final Determination of Sales at Less Than Fair Value: Certain Pasta from Italy, 61 FR 38547 (July 24, 1996) (Order).

² See Initiation of Antidumping and Countervailing Duty Administrative Reviews, 85 FR 54983 (September 3, 2020).

³ See Certain Pasta from Italy: Notice of Partial Rescission of Antidumping Duty Administrative Review, 86 FR 7700 (February 1, 2021).

⁴ See Memorandum, “2019-2020 Antidumping Duty Administrative Review of Certain Pasta from Italy: Respondent Selection,” dated October 15, 2020.

⁵ See Memorandum, “Preliminary Affiliation and Collapsing Memorandum for Liguori Pastificio dal 1820 S.p.A. and Pastificio della Forma S.r.l,” dated concurrently with this notice.

On March 2, 2021, Commerce extended the deadline for the preliminary results to July 30, 2021.⁶ For a complete description of the events that followed the initiation of this review, see the Preliminary Decision Memorandum.⁷

⁶ See Memorandum, “Certain Pasta: Extension of Time Limit for Preliminary Results of Antidumping Duty Administrative Review; 2019/2020,” dated March 2, 2021.

⁷ See Memorandum, “Issues and Decision Memorandum for the Preliminary Results of Antidumping Duty Administrative Review: Certain Pasta from Italy; 2019-2020,” dated concurrently with, and hereby adopted by, this notice (Preliminary Decision Memorandum).

Scope of the Order

The products covered by this order are certain pasta from Italy. For a full description of the scope, see the Preliminary Decision Memorandum.

Methodology

Commerce is conducting this review in accordance with section 751(a)(1)(B) of the Act. Export price was calculated in accordance with section 772 of the Act. Normal value was calculated in accordance with section 773 of the Act. For a full description of the methodology underlying our conclusions, see the Preliminary Decision Memorandum.

The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/index.html. A list of topics discussed in the Preliminary Decision Memorandum is attached as an appendix to this notice.

Rate for Non-Selected Companies

The statute and Commerce's regulations do not address the determination of a weighted-average dumping margin for individual companies not selected for individual examination when Commerce limits its examination in an administrative review pursuant to section 777A(c)(2) of the Act. Generally, Commerce looks to section 735(c)(5) of the Act, which provides instructions for calculating the all-others rate in an investigation, for guidance when determining the weighted-average dumping margin for companies which we did not examine in an administrative review. Section 735(c)(5)(A) of the Act establishes a preference to avoid using rates which are zero, de minimis, or based entirely on facts available in calculating an all-others rate. Accordingly, Commerce's practice in an administrative review has been to average the weighted-average dumping margins for the companies selected for individual examination in the administrative review, excluding rates that are zero, de minimis, or based entirely on facts available.⁸ For the preliminary results of this review, we calculated a weighted-average dumping margin for La Molisana that is not zero, de minimis or based entirely on facts available, while we have calculated a weighted-average dumping margin for Liguori/Della Forma that is de minimis. Therefore, consistent with our practice, we have determined the weighted-average dumping margin for the companies not selected for individual examination that is equal to the weighted-average dumping margin calculated for La Molisana.

⁸ See, e.g., Ball Bearings and Parts Thereof from France, Germany, Italy, Japan, and the United Kingdom: Final Results of Antidumping Duty Administrative Reviews and Rescission of Reviews in Part, 73 FR 52823, 52824 (September 11, 2008), and accompanying Issues and Decision Memorandum at Comment 16.

Preliminary Results of the Review

As a result of this review, we preliminarily determine the following weighted-average dumping margins exist for the POR:

⁹ Though there was no request for review of Ghigi 1870 S.p.A., Commerce previously collapsed Ghigi 1870 S, p, A, and Pasta Zara S.p.A. See Certain Pasta from Italy: Preliminary Results of Antidumping Duty Administrative Review; 2015-2016, 82 FR 36126 (August 3, 2017), and accompanying Preliminary Decision Memorandum at 5; unchanged in Certain Pasta from Italy: Final Results of Antidumping Duty Administrative Review; 2015-2016, 82 FR 5742 (December 5, 2017).

Exporter or producer | Weighted- average dumping margin (percent)
La Molisana S.p.A | 1.61
Liguori Pastificio dal 1820 S.p.A. and Pastificio Della Forma S.r.l | 0.00
Review-Specific Average Rate Applicable to the Following Companies
Agritalia S.r.L | 1.61
Armonie D'Italia srl | 1.61
F. Divella S.p.A | 1.61
Pasta Zara, S.p.A./Ghigi 1870 S.p.A.⁹ | 1.61
Pastificio C.A.M.S. Srl | 1.61
Pastificio Fratelli De Luca S.r.l | 1.61

Assessment Rates

Upon issuance of the final results, Commerce shall determine, and CBP shall assess, antidumping duties on all appropriate entries covered by this review. If a mandatory respondent's weighted-average dumping margin is not zero or de minimis in the final results of this review, we will calculate importer-specific assessment rates based on the ratio of the total amount of dumping calculated for each importer's examined sales and the total entered value of those sales in accordance with 19 CFR 351.212(b)(1).¹⁰ If a respondent's weighted-average dumping margin or an importer-specific assessment rate is zero or de minimis in the final results of review, we will instruct CBP to liquidate the appropriate entries without regard to antidumping duties.

¹⁰ In these preliminary results, Commerce applied the assessment rate calculation method adopted in Antidumping Proceedings: Calculation of the Weighted-Average Dumping Margin and Assessment Rate in Certain Antidumping Duty Proceedings; Final Modification, 77 FR 8101 (February 14, 2012).

In accordance with Commerce's reseller policy, for entries of subject merchandise during the POR produced or exported by produced by La Molisana or Liguori/Della Forma which did not know that its merchandise was destined for the United States, we will instruct CBP to liquidate entries not reviewed at the all-others rate of 15.45 percent, the all-others rate established in the less-than-fair-value (LTFV) investigation as modified by the section 129 determination.¹¹

¹¹ See Implementation of the Findings of the WTO Panel in US—Zeroing (EC): Notice of Determinations Under Section 129 of the Uruguay Round Agreements Act and Revocations and Partial Revocations of Certain Antidumping Duty Orders, 72 FR 25261 (May 4, 2007).

For the companies which were not individually examined, we will instruct CBP to assess antidumping duties at a rate that is equal to the company-specific weighted-average dumping margin determined in the final results of review.

The final results of this administrative review shall be the basis for the assessment of antidumping duties on entries of merchandise under review and for future deposits of estimated duties, where applicable.

We intend to issue liquidation instructions to CBP no earlier than 35 days after date of publication of the final results of this review in the Federal Register. If a timely summons is filed at the U.S. Court of International Trade, the assessment instructions will direct CBP not to liquidate relevant entries until the time for parties to file a request for a statutory injunction has expired (i.e., within 90 days of publication).

Cash Deposit Requirements

The cash deposit rate for companies subject to this review will be as follows: (1) For the companies listed above in the final results of review, the cash deposit rate will be equal to the weighted-average dumping margin established in the final results of the review; (2) for merchandise exported by a company not covered in this review but covered in a prior completed segment of this proceeding, then the cash deposit rate will continue to be the company-specific rate published for the most recent period; (3) if the exporter is not a firm covered in this review, a prior completed review, or the LTFV investigation but the producer is, then the cash deposit rate will be the company-specific rate established for the most recently completed segment for the producer of the merchandise; (4) the cash deposit rate for all other producers and exporters will continue to be the 15.45 percent, the all-others rate established in the section 129 review subsequent to the LTFV investigation.¹²

¹² Id.

These cash deposit requirements, when imposed, shall remain in effect until further notice.

Disclosure

We intend to disclose the calculations performed in these preliminary results to parties in this proceeding within five days of the date of publication of this notice.¹³

¹³ See 19 CFR 351.224(b).

Public Comment

Pursuant to 19 CFR 351.309(c)(1)(ii), interested parties may submit case briefs not later than 30 days after the date of publication of this notice. Rebuttal briefs, limited to issues raised in the case briefs, may be filed no later than seven days after the date for filing case briefs.¹⁴ Parties who submit case briefs or rebuttal briefs in this proceeding are requested to submit with each argument: (1) A statement of the issue; (2) a brief summary of the argument; and (3) a table of authorities.¹⁵

¹⁴ See 19 CFR 351.309(d)(1) and (2); see also Temporary Rule Modifying AD/CVD Service Requirements Due to COVID-19, 85 FR 17006 (March 26, 2020); and Temporary Rule Modifying AD/CVD Service Requirements Due to COVID-19; Extension of Effective Period, 85 FR 41363 (July 10, 2020) (collectively, Temporary Rule).

¹⁵ See 19 CFR 351.309(c)(2) and (d)(2) and 19 CFR 351.303 (for general filing requirements).

Pursuant to 19 CFR 351.310(c), interested parties who wish to request a hearing, limited to issues raised in the case and rebuttal briefs, must submit a written request to the Assistant Secretary for Enforcement and Compliance, within 30 days after the date of publication of this notice. Requests should contain: (1) The party's name, address, and telephone number; (2) the number of participants; and (3) a list of issues to be discussed. If a request for a hearing is made, Commerce intends to hold the hearing at a time and date to be determined. Parties should confirm by telephone the date, time, and location hearing two days before the scheduled date.

All briefs must be filed electronically using ACCESS.¹⁶ An electronically filed document must be received successfully in its entirety by Commerce's electronic records system, ACCESS, by 5:00 p.m. Eastern Time on the date that the submission is due. Note that Commerce has temporarily modified certain of its requirements for serving documents containing business proprietary information, until further notice.¹⁷

¹⁶ See generally 19 CFR 351.303.

¹⁷ See Temporary Rule.

Final Results of Review

We intend to issue the final results of this administrative review, including the results of our analysis of the issues raised in any written briefs, not later than 120 days after the date of publication of this notice, pursuant to section 751(a)(3)(A) of the Act.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties.

Notification to Interested Parties

We are issuing and publishing these results in accordance with sections 751(a)(1) and 777(i)(1) of the Act, and 19 CFR 351.213(h)(1).

Dated: July 28, 2021.
Christian Marsh,
Acting Assistant Secretary for Enforcement and Compliance.

Appendix—List of Topics Discussed in the Preliminary Decision Memorandum

I. Summary

II. Background

III. Scope of the Order

IV. Affiliation and Collapsing

V. Discussion of the Methodology

VI. Recommendation

[FR Doc. 2021-16498 Filed 8-2-21; 8:45 am]

BILLING CODE 3510-DS-P